NATIONAL AERONAUTICS AND SPACE ADMINISTRATION

[Notice: 17-078]

NASA Advisory Council; Charter Renewal

AGENCY: National Aeronautics and Space Administration (NASA).

ACTION: Notice of renewal of the charter of the NASA Advisory Council.

Pursuant to sections 14(b)(1) and 9(c) of the Federal Advisory Committee Act, as amended (Pub. L. 92-463, 5 U.S.C. App.), and after consultation with the Committee Management Secretariat, General Services Administration, the NASA Acting Administrator has determined that renewal of the charter of the NASA Advisory Council is necessary and in the public interest. The renewed charter is for a two-year period ending October 20, 2019.

FOR FURTHER INFORMATION CONTACT: Ms. Marla K. King, NASA Headquarters, 300 E Street SW., Washington, DC 20546, phone: (202) 358-1148; email: marla.k.king@nasa.gov.

Patricia D. Rausch,
Advisory Committee Management Officer, National Aeronautics and Space Administration.

[FR Doc. 2017-23408 Filed 10-27-17; 8:45 am]

BILLING CODE 7510-13-P